DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2002 National Household Survey on Drug Abuse—(OMB Number 0930-0110, Revision)—The National Household Survey on Drug Abuse (NHSDA) is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

For the 2002 NHSDA, the modular components of the NHSDA questionnaire will remain essentially unchanged except for minor modifications to wording. As with all NHSDA surveys conducted since 1999, the sample size of the survey for 2002 will be sufficient to permit prevalence estimates for each of the fifty states and the District of Columbia. The total annual burden estimate is 85,400 hours as shown below:

| Number of respondents | Responses/ respondent | Average burden response (hrs.) | Total burden hours
Household Screening | 202,500 | 1 | 0.083 | 16,808
NHSDA Interview | 67,500 | 1 | 1.000 | 67,500
Screening Verification | 6,176 | 1 | 0.067 | 414
Interview Verification | 10,125 | 1 | 0.067 | 678
Total |  |  |  | 85,400

Please send comments to Nancy Pearce, SAMHSA Reports Clearance Officer, Parklawn Building, 5600 Fishers Lane, Room 16-105, Rockville, Maryland 20857. Written comments should be received within 60 days of this notice.

Dated: March 19, 2001.
Richard Kopanda,
Executive Officer, SAMHSA.

[FR Doc. 01-7348 Filed 3-23-01; 8:45 am]

BILLING CODE 4162-20-P